DEPARTMENT OF LABOR

Employment and Training Administration

[TA-W-40,182]

Aquatech, Inc., Cookeville, TN; Notice of Termination of Investigation

Pursuant to section 221 of the Trade Act of 1974, an investigation was initiated on October 9, 2001 in response to a worker petition, which was filed on behalf of workers at Aquatech, Inc., Cookeville, Tennessee.

The group of workers at Aquatech, Inc., Cookeville, Tennessee was certified on October 2, 2001 (TA-W-39,813C). Consequently, further investigation in this case would serve no purpose, and the investigation has been terminated.

Signed in Washington, DC this 15th day of November, 2001.
Linda G. Poole,
Certifying Officer, Division of Trade Adjustment Assistance.

[FR Doc. 01-29751 Filed 11-29-01; 8:45 am]

BILLING CODE 4510-30-M